SMALL BUSINESS ADMINISTRATION

Wisconsin District Advisory Council; Public Meeting

The U. S. Small Business Administration Advisory board will hold a public meeting on Wednesday March 27, 2002. The Wisconsin Advisory Council meeting will take place at the Plaza East office building located at 330 East Kilbourn Ave., 8th floor Milwaukee, Wisconsin. The time set forth is 12 noon to 1 pm. The purpose for this meeting will be to discuss such matters as may be presented by members, staff of the U.S. Small Business Administration or others present. For further information, please write or call Yolanda Staples-Lassiter, U. S. Small Business Administration, 310 West Wisconsin Ave., Suite 400 Milwaukee, Wisconsin 53202; Telephone (414) 297-1090. The public is invited.

Steve Tupper,
Committee Management Officer.

[FR Doc. 02-6418 Filed 3-15-02; 8:45 am]

BILLING CODE 8025-01-P